DEPARTMENT OF COMMERCE

International Trade Administration

[A-583-854]

Certain Steel Nails From Taiwan: Preliminary Results of Antidumping Duty Administrative Review and Partial Rescission of Review; 2023-2024

AGENCY: Enforcement and Compliance, International Trade Administration, Department of Commerce.

SUMMARY: The U.S. Department of Commerce (Commerce) preliminarily finds that Dar Yu Enterprise Co Ltd. (Dar Yu), Liang Chyuan Industrial Co. Ltd. (Liang Chyuan), Tricera Corp. (Tricera), and Your Standing International Inc. (YSI) made sales of certain steel nails (nails) from Taiwan at prices below normal value (NV) during the period of review (POR), July 1, 2023, through June 30, 2024. Additionally, Commerce is rescinding this administrative review, in part, with respect to certain companies that had no entries of subject merchandise during the POR. We invite interested parties to comment on these preliminary results.

DATES: Applicable April 3, 2025.

FOR FURTHER INFORMATION CONTACT: Henry Wolfe, AD/CVD Operations, Office VIII, Enforcement and Compliance, International Trade Administration, U.S. Department of Commerce, 1401 Constitution Avenue NW, Washington, DC 20230; telephone: (202) 482-0574.

SUPPLEMENTARY INFORMATION:

Background

On July 13, 2015, Commerce published the antidumping duty (AD) order on nails from Taiwan.¹ On July 1, 2024, Commerce published a notice of opportunity to request an administrative review of the Order.² On July 31, 2024, Mid Continent Steel & Wire Inc. (Mid Continent) filed a timely request for review with respect to 23 companies.³ Pursuant to this request, on August 14, 2024, Commerce published the Initiation Notice in the Federal Register.⁴

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity to Request Administrative Review and Join Annual Inquiry Service List, 89 FR 54437, 54438 (July 1, 2024).

³ See Mid Continent's Letter, “Request for Administrative Review,” dated July 31, 2024.

⁴ See Initiation of Antidumping and Countervailing Duty Administrative Reviews, 89 FR 66035, 66041 (August 14, 2024) (Initiation Notice).

In the Initiation Notice, Commerce indicated that, in the event that it limited the respondents for individual examination in accordance with section 777A(c)(2) of the Tariff Act of 1930, as amended (the Act), Commerce intended to select respondents for individual examination based on U.S. Customs and Border Protection (CBP) data.⁵ On August 22, 2024, Commerce released CBP entry data to interested parties and provided interested parties the opportunity to comment on the CBP data and respondent selection.⁶ No interested parties filed comments regarding the CBP data or respondent selection.

⁵ Id.

⁶ See Memorandum “Release of Customs Data from U.S. Customs and Border Protection,” dated August 22, 2024.

On September 17, 2024, Commerce selected Liang Chyuan and Tricera as mandatory respondents in this review.⁷ On September 19, 2024, Commerce issued the AD questionnaire to Liang Chyuan and Tricera.⁸

⁷ See Memorandum, “Respondent Selection,” dated September 17, 2024.

⁸ See Commerce's Letters, “Request for Information,” dated September 19, 2024 (AD Questionnaire).

Because Liang Chyuan and Tricera did not timely respond, or request an extension of time to respond to Commerce's AD questionnaire,⁹ on November 25, 2024, Commerce selected Dar Yu and YSI as additional mandatory respondents.¹⁰ On November 27, 2024, Commerce issued the AD questionnaire to Dar Yu and YSI.¹¹ Dar Yu and YSI did not timely respond, or request an extension of time to respond to Commerce's AD questionnaire.¹²

⁹ See Memorandum, “Questionnaire Deadline for Liang Chyuan,” dated October 11, 2024; see also Memorandum, “Questionnaire Deadline for Tricera Corp,” dated October 11, 2024.

¹⁰ See Memorandum, “Selection of Additional Mandatory Respondents,” dated November 25, 2024.

¹¹ See Commerce's Letters, “Request for Information,” dated November 27, 2024.

¹² See Memorandum, “Questionnaire Deadline for Dar Yu,” dated January 3, 2025; see also Memorandum, “Questionnaire Deadline for YSI,” dated January 3, 2025.

On December 9, 2024, Commerce tolled the deadline to issue the preliminary results in this administrative review by 90 days.¹³ Accordingly, the deadline for these preliminary results is now July 1, 2025.

¹³ See Memorandum, “Tolling of Deadlines for Antidumping and Countervailing Duty Proceedings,” dated December 9, 2024.

On February 20, 2025, Commerce set a deadline to file pre-preliminary comments on the record of this administrative review.¹⁴ On March 6, 2025, Mid-Continent submitted pre-preliminary comments.¹⁵ No other interested parties filed pre-preliminary comments.

¹⁴ See Memorandum, “Deadline for Pre-Preliminary Comments,” dated February 20, 2025.

¹⁵ See Mid-Continent's Letter, “Pre-Preliminary Comments,” dated March 6, 2025.

Scope of the Order

The merchandise covered by the order is nails having a nominal shaft length not exceeding 12 inches.¹⁶ Nails include, but are not limited to, nails made from round wire and nails that are cut from flat-rolled steel. Nails may be of one piece construction or constructed of two or more pieces. Nails may be produced from any type of steel, and may have any type of surface finish, head type, shank, point type and shaft diameter. Finishes include, but are not limited to, coating in vinyl, zinc (galvanized, including but not limited to electroplating or hot dipping one or more times), phosphate, cement, and paint. Nails may have one or more surface finishes. Head styles include, but are not limited to, flat, projection, cupped, oval, brad, headless, double, countersunk, and sinker. Shank styles include, but are not limited to, smooth, barbed, screw threaded, ring shank and fluted. Screw-threaded nails subject to this proceeding are driven using direct force and not by turning the nail using a tool that engages with the head. Point styles include, but are not limited to, diamond, needle, chisel and blunt or no point. Nails may be sold in bulk, or they may be collated in any manner using any material.

¹⁶ The shaft length of nails with flat heads or parallel shoulders under the head shall be measured from under the head or shoulder to the tip of the point. The shaft length of all other nails shall be measured overall.

Excluded from the scope of the order are nails packaged in combination with one or more non-subject articles, if the total number of nails of all types, in aggregate regardless of size, is less than 25. If packaged in combination with one or more non-subject articles, nails remain subject merchandise if the total number of nails of all types, in aggregate regardless of size, is equal to or greater than 25, unless otherwise excluded based on the other exclusions below.

Also excluded from the scope are nails with a nominal shaft length of one inch or less that are (a) a component of an unassembled article, (b) the total number of nails is sixty (60) or less, and (c) the imported unassembled article falls into one of the following eight groupings: (1) Builders' joinery and carpentry of wood that are classifiable as windows, French-windows and their frames; (2) builders' joinery and carpentry of wood that are classifiable as doors and their frames and thresholds; (3) swivel seats with variable height adjustment; (4) seats that are convertible into beds (with the exception of those classifiable as garden seats or camping equipment); (5) seats of cane, osier, bamboo or similar materials; (6) other seats with wooden frames (with the exception of seats of a kind used for aircraft or motor vehicles); (7) furniture (other than seats) of wood (with the exception of (i) medical, surgical, dental or veterinary furniture; and (ii) barbers' chairs and similar chairs, having rotating as well as both reclining and elevating movements); or (8) furniture (other than seats) of materials other than wood, metal, or plastics (e.g., furniture of cane, osier, bamboo or similar materials). The aforementioned imported unassembled articles are currently classified under the following Harmonized Tariff Schedule of the United States (HTSUS) subheadings: 4418.10, 4418.20, 9401.30, 9401.40, 9401.51, 9401.59, 9401.61, 9401.69, 9403.30, 9403.40, 9403.50, 9403.60, 9403.81, or 9403.89.

Also excluded from the scope of the order are nails that meet the specifications of Type I, Style 20 nails as identified in Tables 29 through 33 of ASTM Standard F1667 (2013 revision).

Also excluded from the scope of the order are nails suitable for use in powder-actuated hand tools, whether or not threaded, which are currently classified under HTSUS subheadings 7317.00.20.00 and 7317.00.30.00.

Also excluded from the scope of the order are nails having a case hardness greater than or equal to 50 on the Rockwell Hardness C scale (HRC), a carbon content greater than or equal to 0.5 percent, a round head, a secondary reduced-diameter raised head section, a centered shank, and a smooth symmetrical point, suitable for use in gas-actuated hand tools.

Also excluded from the scope of the order are corrugated nails. A corrugated nail is made up of a small strip of corrugated steel with sharp points on one side.

Also excluded from the scope of the order are thumb tacks, which are currently classified under HTSUS subheading 7317.00.10.00.

Nails subject to the order are currently classified under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60, and 7317.00.75.00. Nails subject to these orders also may be classified under HTSUS subheadings 7907.00.60.00, 8206.00.00.00, 7806.00.80.00, 7318.29.00.00, or other HTSUS subheadings.

While the HTSUS subheadings are provided for convenience and customs purposes, the written description of the scope of the Order is dispositive.

Partial Rescission of Review

Pursuant to 19 CFR 351.213(d)(3), it is Commerce's practice to rescind an administrative review of an AD order when there are no reviewable entries of subject merchandise during the POR for which liquidation is suspended.¹⁷ Normally, upon completion of an administrative review, the suspended entries are liquidated at the AD assessment rate calculated for the review period.¹⁸ Therefore, for an administrative review to be conducted, there must be at least one reviewable, suspended entry that Commerce can instruct CBP to liquidate at the AD assessment rate calculated for the review period.¹⁹ There were no entries of subject merchandise during the POR for 19 of the companies subject to review.²⁰ As a result, on December 2, 2024, Commerce notified all interested parties of its intent to rescind this review, in part, with respect to these 19 companies and received no comments.²¹ Therefore, we are rescinding this review, in part, with respect to these 19 companies which had no suspended entries in the POR. The administrative review remains active with respect to four companies.

¹⁷ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹⁸ See 19 CFR 351.212(b)(1).

¹⁹ See 19 CFR 351.213(d)(3).

²⁰ See Appendix for a list of these companies.

²¹ See Memorandum, “Notice of Intent to Rescind Review, In Part,” dated December 2, 2024.

Facts Available With Adverse Inferences

Section 776(a) of the Act provides that, subject to section 782(d) of the Act, Commerce shall apply “facts otherwise available” if, inter alia, necessary information is not on the record or an interested party or any other person: (A) withholds information that has been requested; (B) fails to provide information within the deadlines established, or in the form and manner requested by Commerce, subject to subsections (c)(1) and (e) of section 782 of the Act; (C) significantly impedes a proceeding; or (D) provides information that cannot be verified as provided by section 782(i) of the Act.

Where Commerce determines that a response to a request for information does not comply with the request, section 782(d) of the Act provides that Commerce will so inform the party submitting the response and will, to the extent practicable, provide that party the opportunity to remedy or explain the deficiency. If the party fails to remedy the deficiency within the applicable time limits and subject to section 782(e) of the Act, Commerce may disregard all or part of the original and subsequent responses, as appropriate.

Section 776(b) of the Act provides that Commerce may use an adverse inference in applying the facts otherwise available when a party has failed to cooperate by not acting to the best of its ability to comply with a request for information. In doing so, Commerce is not required to determine, or make any adjustments to, a weighted average dumping margin based on any assumptions about information an interested party would have provided if the interested party had complied with the request for information.²² Further, section 776(b)(2) of the Act states that an adverse inference may include reliance on information derived from the petition, the final determination from the AD investigation, a previous administrative review, or other information placed on the record.²³ The SAA explains that Commerce may employ an adverse inference “to ensure that the party does not obtain a more favorable result by failing to cooperate than if it had cooperated fully.” ²⁴ Further, affirmative evidence of bad faith on the part of a respondent is not required before Commerce may make an adverse inference.²⁵

²² See sections 776(b)(1)(B) and 776(d)(3)(A) of the Act.

²³ See 19 CFR 351.308(c).

²⁴ See Statement of Administrative Action Accompanying the Uruguay Round Agreements Act, H.R. Doc. No. 103-316, 103d Cong., 2d Session, vol. 1 (1994) (SAA) at 870.

²⁵ See, e.g., Notice of Final Determination of Sales at Less Than Fair Value: Circular Seamless Stainless Steel Hollow Products from Japan, 65 FR 42985 (July 12, 2000); and Antidumping Duties, Countervailing Duties, 62 FR 27296, 27340 (May 19, 1997); and Nippon Steel Corp. v. United States, 337 F.3d 1373, 1382-83 (Fed. Cir. 2003).

Section 776(c) of the Act provides that, in general, when Commerce relies on secondary information rather than on information obtained in the course of an investigation, it shall, to the extent practicable, corroborate that information from independent sources that are reasonably at its disposal.²⁶ Secondary information is defined as information derived from the petition that gave rise to the investigation, the final determination concerning the subject merchandise, or any previous review under section 751 of the Act concerning the subject merchandise.²⁷ When selecting facts available with an adverse inference, Commerce is not required to estimate what the dumping margin would have been if the interested party failing to cooperate had cooperated or to demonstrate that the dumping margin reflects an “alleged commercial reality” of the interested party.²⁸

²⁶ See 19 CFR 351.308(d).

²⁷ See SAA at 870.

²⁸ See section 776(d)(3)(B) of the Act.

Pursuant to sections 776(a)(1) and 776(a)(2)(A)-(C) of the Act, Commerce is preliminarily relying upon facts otherwise available to assign estimated dumping margins to mandatory respondents Dar Yu, Liang Chyuan, Tricera, and YSI because all four companies were unresponsive to our requests for information, thereby withholding necessary information that was requested by Commerce, failing to provide the information requested by the specified deadlines in the form and manner requested, and significantly impeding the conduct of the review. Further, Commerce preliminarily finds that Dar Yu, Liang Chyuan, Tricera, and YSI failed to cooperate by not acting to the best of their ability to comply with requests for information and, thus, Commerce is applying an adverse inference in selecting among the facts available, in accordance with section 776(b) of the Act. As adverse facts available, we are assigning these companies a rate of 78.17 percent, which is the highest rate applied in any segment of this proceeding.²⁹ Pursuant to section 776(c)(2) of the Act, Commerce is not required to corroborate any dumping margin applied in a separate segment of the same proceeding.

²⁹ See Certain Steel Nails from Taiwan: Preliminary Results of Antidumping Duty Administrative Review and Partial Rescission of Administrative Review; 2015-2016, 82 FR 36744 (August 7, 2017), and accompanying Preliminary Decision Memorandum, unchanged in Certain Steel Nails from Taiwan: Final Results of Antidumping Duty Administrative Review and Partial Rescission of Administrative Review; 2015-2016, 83 FR 6163 (February 13, 2018).

Preliminary Results

Commerce preliminarily determines that the following estimated weighted-average dumping margin exists for the period, July 1, 2023, through June 30, 2024:

Producer or exporter | Weighted- average dumping margin (percent)
Dar Yu Enterprise Co Ltd | 78.17
Liang Chyuan Industrial Co. Ltd | 78.17
Tricera Corp | 78.17
Your Standing International Inc | 78.17

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied total adverse facts available to the four companies subject to this review, in accordance with section 776 of the Act, there are no calculations to disclose.

Public Comment

Case briefs or other written comments may be submitted to the Assistant Secretary for Enforcement and Compliance. Pursuant to 19 CFR 351.309(c)(1)(ii), we have modified the deadline for interested parties to submit case briefs to Commerce to no later than 21 days after the date of the publication of this notice.³⁰ Rebuttal briefs, limited to issues raised in the case briefs, may be filed no later than five days after the date for filing case briefs.³¹ Interested parties who submit case or rebuttal briefs in this proceeding must submit: (1) a table of contents listing each issue; and (2) a table of authorities.³²

³⁰ See 19 CFR 351.303 (for general filing requirements).

³¹ See 19 CFR 351.309(d); see also Administrative Protective Order, Service, and Other Procedures in Antidumping and Countervailing Duty Proceedings, 88 FR 67069, 67077 (September 29, 2023) (APO and Service Final Rule).

³² See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs. Further, we request that interested parties limit their public executive summary of each issue to no more than 450 words, not including citations. We intend to use the executive summaries as the basis of the comment summaries included in the issues and decision memorandum that will accompany the final determination in this review. We request that interested parties include footnotes for relevant citations in the public executive summary of each issue. Note that Commerce has amended certain of its requirements pertaining to the service of documents in 19 CFR 351.303(f).³³

³³ See APO and Service Final Rule.

Pursuant to 19 CFR 351.310(c), interested parties who wish to request a hearing must submit a written request to the Assistant Secretary for Enforcement and Compliance, filed electronically via Antidumping and Countervailing Duty Centralized Electronic Service System (ACCESS). Requests should contain: (1) the party's name, address, and telephone number; (2) the number of participants and whether any participant is a foreign national; and (3) a list of issues to be discussed. Issues raised in the hearing will be limited to those raised in the respective case briefs. An electronically filed hearing request must be received successfully in its entirety by Commerce's electronic records system, ACCESS, within 30 days after the date of publication of this notice. If a request for a hearing is made, Commerce intends to hold a hearing at a time and date to be determined.³⁴ Parties should confirm the date, time, and location of the hearing two days before the scheduled date. All submissions, including case and rebuttal briefs, as well as hearing requests, should be filed using ACCESS.³⁵ An electronically-filed document must be received successfully in its entirety by ACCESS by 5:00 p.m. Eastern Time on the established deadline.

³⁴ See 19 CFR 351.310(d).

³⁵ See 19 CFR 351.303.

Assessment Rates

Consistent with section 751(a)(1) of the Act and 19 CFR 351.212(b)(1), upon issuing the final results of this review, Commerce will determine, and CBP shall assess, antidumping duties on all appropriate entries covered by this review.³⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

³⁶ See 19 CFR 351.212(b).

With respect to the companies for which we have rescinded this review, Commerce will instruct CBP to assess antidumping duties on all appropriate entries at rates equal to the cash deposit rate of estimated antidumping duties required at the time of entry, or withdrawal from warehouse, for consumption, during the POR, in accordance with 19 CFR 351.212(c)(1)(i). Commerce intends to issue rescission instructions to CBP no earlier than 35 days after the date of publication of this notice in the Federal Register.

Cash Deposit Instructions

The following cash deposit requirements will be effective upon publication in the Federal Register of the notice of final results of administrative review for all shipments of nails from Taiwan entered, or withdrawn from warehouse, for consumption on or after the date of publication, as provided for by section 751(a)(2)(C) of the Act: (1) the cash deposit rate for Dar Yu, Liang Chyuan, Tricera, and YSI will be equal to the weighted-average dumping margin established in the final results of this review; (2) for merchandise exported by a company not covered in this review but covered in a prior completed segment of the proceeding, the cash deposit rate will continue to be the company specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 2.16 percent, the all-others rate established in the less-than-fair-value investigation.³⁷ These cash deposit requirements, when imposed, shall remain in effect until further notice.

³⁷ See Certain Steel Nails from Taiwan: Notice of Court Decision Not in Harmony With Final Determination in Less Than Fair Value Investigation and Notice of Amended Final Determination, 82 FR 55090 (November 20, 2017).

Final Results of the Review

Unless the deadline is otherwise extended, Commerce intends to issue the final results of this administrative review, including the results of its analysis of issues raised by interested parties in the written briefs, within 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: March 27, 2025.
Christopher Abbott,
Deputy Assistant Secretary for Policy and Negotiations, Performing the non-exclusive functions and duties of the Assistant Secretary for Enforcement and Compliance.

Appendix

Companies for Which Commerce Is Rescinding the Administrative Review

1. Cool Shot Ltd.

2. Chunyu Factory Co., Ltd

3. Create Trading Co., Ltd.

4. Fang Sheng Screw Co., Ltd

5. Fwang Tzay Enterprise Corp

6. Home Value Co., Ltd.

7. Hsi Yi Enterprise Co. Ltd.

8. Hsin Ho Mfg. Co., Ltd.

9. JCH Hardware Company, Inc.

10. Joker Industrial Co., Ltd.

11. Leading Hardware Corporation

12. Panther T & H Industry Co., Ltd.

13. Perfect Seller Co., Ltd.

14. Phoenix Merchandise Inc.

15. Sanji Co., Ltd.

16. Sourcing Metrics Ltd.

17. TG Co., Ltd

18. Xiamen Huiyu Chemical Trading Co.

19. Yeun Chang Hardware Tool Company Limited

[FR Doc. 2025-05692 Filed 4-2-25; 8:45 am]

BILLING CODE 3510-DS-P